DEPARTMENT OF COMMERCE

International Trade Administration

[A-588-704]

Brass Sheet and Strip From Japan: Rescission of Antidumping Duty Administrative Review; 2011-2012

AGENCY: Import Administration, International Trade Administration, Department of Commerce.

SUMMARY: The Department of Commerce (“the Department”) is rescinding the administrative review of the antidumping duty order on brass sheet and strip from Japan for the period August 1, 2011, through July 31, 2012.

DATES: Effective Date: February 11, 2013.

FOR FURTHER INFORMATION CONTACT: Mahnaz Khan, AD/CVD Operations, Office 1, Import Administration, International Trade Administration, U.S. Department of Commerce, 14th Street and Constitution Avenue NW., Washington DC 20230; telephone: (202) 482-0914.

SUPPLEMENTARY INFORMATION:

Background

The Department initiated an administrative review of the antidumping duty order on brass sheet and strip from Japan covering the period August 1, 2011, through July 31, 2012, based on a request by GBC Metals, LLC, of Global Brass and Copper, Inc., doing business as Olin Brass; Heyco Metals, Inc.; Aurubis Buffalo, Inc.; PMX Industries, Inc.; and Revere Copper Products, Inc. (collectively, “Petitioners”). See Initiation of Antidumping and Countervailing Duty Administrative Reviews and Request for Revocation in Part, 77 FR 59168 (September 26, 2012).

The review covers 22 companies: Dowa Metals & Mining Co., Ltd.; Fujisawa Co., Ltd.; Furukawa Electric Co., Ltd.; Harada Metal Industry; Hitachi Alloy, Ltd.; Hitachi Cable, Ltd.; Kicho Shindosho Co., Ltd.; Kitz Metal Works Corp.; Kobe Steel, Ltd.; Mitsubishi Materials Corp.; Mitsubishi Electric Metecs Co., Ltd.; Mitsubishi Shindoh Co., Ltd.; Mitsui Mining & Smelting Co., Ltd. (Mitsui Kinzoku); Mitsui Sumitomo Metal Mining Brass & Copper Co., Ltd.; NGK Insulators (NGK Metals); Nippon Mining & Metals Co., Ltd.; Ohki Brass & Copper Co., Ltd.; Sambo Copper Alloy Co., Ltd.; Sugino Metal Industry Co., Ltd.; Sumitomo Metal Mining Brass & Copper Co., Ltd.; Uji Copper & Alloy Co., Ltd.; and YKK Corporation.

On December 20, 2012, Petitioners withdrew their request for an administrative review on all 22 producers/exporters.

Rescission of Review

Pursuant to 19 CFR 351.213(d)(1), the Secretary will rescind an administrative review, in whole or in part, if the parties that requested a review withdraw the request within 90 days of the date of publication of the notice of initiation of the requested review. In this case, Petitioners withdrew their request within the 90-day deadline and no other parties requested an administrative review of the antidumping duty order. Therefore, we are rescinding the administrative review of brass sheet and strip from Japan covering the period August 1, 2011, through July 31, 2012.

Assessment

The Department will instruct U.S. Customs and Border Protection (“CBP”) to assess antidumping duties on all suspended entries subject to the AD Order for the period August 1, 2011 to July 31, 2011. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice.

Notification to Importers

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

Notification Regarding Administrative Protective Order

This notice serves as a final reminder to parties subject to administrative protective order (“APO”) of their responsibility concerning the return or destruction of proprietary information disclosed under an APO in accordance with 19 CFR 351.305(a)(3). Timely written notification of the return or destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: February 5, 2013.
Christian Marsh,
Deputy Assistant Secretary for Antidumping and Countervailing Duty Operations.

[FR Doc. 2013-03080 Filed 2-8-13; 8:45 am]

BILLING CODE 3510-DS-P